DEPARTMENT OF TRANSPORTATION

Federal Aviation Administration

Notice of Request To Release Airport Property for Land Disposal at the Ankeny Regional Airport (IKV), Ankeny, Iowa

AGENCY: Federal Aviation Administration (FAA), DOT.

ACTION: Notice of request to rule on release of airport property for land disposal.

SUMMARY: The FAA proposes to rule and invites public comment on the release of land at the Ankeny Regional Airport (IKV), Ankeny, Iowa.

DATES: Comments must be received on or before June 11, 2020.

ADDRESSES: Comments on this application may be mailed or delivered to the FAA at the following address: Amy J. Walter, Airports Land Specialist, Federal Aviation Administration, Airports Division, ACE-620G, 901 Locust, Room 364, Kansas City, MO 64106.

In addition, one copy of any comments submitted to the FAA must be mailed or delivered to: Paul Moritz, Polk County Aviation Authority, Ankeny City Hall, 410 West 1st Street, Ankeny, Iowa 50039, (515) 965-6420.

FOR FURTHER INFORMATION CONTACT: Amy J. Walter, Airports Land Specialist, Federal Aviation Administration, Airports Division, ACE-620G, 901 Locust, Room 364, Kansas City, MO 64106, (816) 329-2603, amy.walter@faa.gov. The request to release property may be reviewed, by appointment, in person at this same location.

SUPPLEMENTARY INFORMATION: The FAA invites public comment on the request to release one tract of land consisting of approximately 16.06 acres of airport property at the Ankeny Regional Airport (IKV) under the provisions of 49 U.S.C. 47107(h)(2). On February 12, 2020, the Attorney for the Polk County Aviation Authority requested a release from the FAA to sell a tract of land, 16.06 acres. Buyer, Van Houweling Property LLC, will use the land for development. On May 4, 2020, the FAA determined that the request to release property at the Ankeny Regional Airport (IKV) submitted by the Sponsor meets the procedural requirements of the Federal Aviation Administration and the release of the property does not and will not impact future aviation needs at the airport. The FAA may approve the request, in whole or in part, no sooner than thirty days after the publication of this notice.

The following is a brief overview of the request:

The Ankeny Regional Airport (IKV) is proposing the release of airport property containing 16.06 acres, more or less. The release of land is necessary to comply with Federal Aviation Administration Grant Assurances that do not allow federally acquired airport property to be used for non-aviation purposes. The sale of the subject property will result in the land at the Ankeny Regional Airport (IKV) being changed from aeronautical to non-aeronautical use and release the lands from the conditions of the Airport Improvement Program Grant Agreement Grant Assurances in order to dispose of the land. In accordance with 49 U.S.C. 47107(c)(2)(B)(i) and (iii), the airport will receive fair market value for the property, which will be subsequently reinvested in another eligible airport improvement project for general aviation use.

Any person may inspect, by appointment, the request in person at the FAA office listed above under FOR FURTHER INFORMATION CONTACT. In addition, any person may, upon appointment and request, inspect the application, notice and other documents determined by the FAA to be related to the application in person at the Ankeny City Hall.

Issued in Kansas City, MO on May 4, 2020.
James A. Johnson,
Director, FAA Central Region, Airports Division.

[FR Doc. 2020-10080 Filed 5-11-20; 8:45 am]

BILLING CODE 4910-13-P